DEPARTMENT OF AGRICULTURE

Rural Utilities Service

[Docket No. RUS-23-AGENCY-0018]

Notice of Request for Revision of a Currently Approved Information Collection

AGENCY: Rural Utilities Service, USDA.

ACTION: Notice and request for comments.

SUMMARY: In accordance with the Paperwork Reduction Act of 1995, this notice invites comments on the OneRD Loan Guarantee Program information collection package and announces the Rural Utilities Service intention to request a revision for to a currently approved information collection from the Office of management and Budget (OMB).

DATES: Comments on this notice must be received by January 26, 2024 to be assured of consideration.

FOR FURTHER INFORMATION CONTACT: Contact Adyam Negasi, Innovation Center, Regulations Management Division, U.S. Department of Agriculture, 1400 Independence Ave. SW, Washington, DC 20250; Tel: 202-221-9298; Email: Adyam.Negasi@usda.gov.

SUPPLEMENTARY INFORMATION: The Office of Management and Budget's regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the proposed collection of information is necessary for the proper performance of the functions of the agency, including whether the information will have practical utility; (b) the accuracy of the agency's estimate of burden including the validity of the methodology and assumption used; (c) ways to enhance the quality, utility, and clarity of the information to be collected; and (d) ways to minimize the burden of the collection of information on those who are to respond, including the use of appropriate automated, electronic, mechanical, or other technological collection techniques on other forms and information technology.

Comments may be sent by the Federal eRulemaking Portal: Go to https://www.regulations.gov and, in the “Search” box, type in the Docket No. RUS-23-AGENCY-0018. A link to the Notice will appear. You may submit a comment here by selecting the “Comment” button or you can access the “Docket” tab, select the “Notice,” and go to the “Browse & Comment on Documents” tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom.

Title: OneRD Guaranteed Loan Program.

OMB Number: 0572-0155.

Expiration Date of Approval: 04/30/2024.

Type of Request: Revision of a currently approved information collection.

Abstract: Rural Development has a consolidated guaranteed loan regulation that covers four guaranteed loan programs in one regulation (Community Facilities, Water and Waste Disposal, Business and Industry, and Rural Energy for America Program). Rural Development, a mission area of the U.S. Department of Agriculture (USDA), is comprised of three agencies (Rural Utilities Service (RUS), Rural Housing Service (RHS), and Rural Business-Cooperative Service (RBCS)), that together administer loans through the OneRD Guaranteed Loan Program (or Program) pursuant to 7 CFR part 5001. Loans are used for water and waste disposal systems, essential community infrastructure such as healthcare, libraries and fire stations, and the development and improvement of businesses and industries in rural communities. The Program encourages lender participation and provides specific guidance in the processing and servicing of guaranteed loans.

Estimate of Burden: Public reporting burden for this collection of information is estimated to average 3.84 hours per response.

Respondents: Public Bodies; Non-Profits; Special Districts; Tribal Organizations.

Estimated Number of Respondents: 725.

Estimated Number of Responses per Respondent: 19.09.

Estimated Total Annual Burden on Respondents: 53110.75.

Copies of this information collection can be obtained from Adyam Negasi, Rural Development Innovation Center, Regulations Management Division, at 202-221-9298. All responses to this notice will be summarized and included in the request for OMB approval. All comments will also become a matter of public record.

All responses to this notice will be summarized and included in the request for OMB approval. All comments will become a matter of public record.

Andrew Berke,
Administrator, USDA, Rural Utilities Service.

[FR Doc. 2023-26016 Filed 11-24-23; 8:45 am]

BILLING CODE 3410-15-P